DEPARTMENT OF LABOR

Employment and Training Administration

[TA-W-85,796; TA-W-85,796A; TA-W-85,796B; TA-W-85,796C; TA-W-85,796D]

Amended Certification Regarding Eligibility To Apply for Worker Adjustment Assistance

U.S. Steel Tubular Products, Inc., Lone Star Tubular Operations, a Subsidiary of United States Steel Corporation, Including On-Site Leased Workers from Delta, Alliance Group Technologies and Good Shepherd Medical Center, Lone Star, Texas

United States Steel Corporation, Minnesota Ore Operations—Keetac, Including On-Site Leased Workers of Securitas, Cleaning Specialists, and Alliance Group Technologies, Keewatin, Minnesota

United States Steel Corporation, Minnesota Ore Operations—Minntac, Including On-Site Leased Workers of Securitas, Esssentia Health, Cleaning Specialists, and Alliance Group Technologies, Mt. Iron, Minnesota

United States Steel Corporation, Granite City Works, Granite City, Illinois

United States Steel Corporation, Mon Valley Works, West Mifflin, Pennsylvania

In accordance with Section 223 of the Trade Act of 1974, as amended (“Act”), 19 U.S.C. 2273, the Department of Labor issued a Certification of Eligibility to Apply for Worker Adjustment Assistance on March 12, 2015, applicable to workers and former workers of U.S. Steel Tubular Products, Inc., Lone Star Tubular Operations, a subsidiary of United States Steel Corporation, Lone Star, Texas. The Department's Notice of Determination was published in the Federal Register on April 13, 2015 (80 FR 19691).

Information obtained from United States Steel Corporation reveals that the following locations operate in conjunction with each other in the production of steel tubular products Lone Star, Texas (TA-W-85,796); Keewatin, Minnesota (TA-W-85,796A); Mt. Iron, Minnesota (TA-A-85,796B); Granite City, Illinois (TA-W-85,796C); and West Mifflin, Pennsylvania (TA-W-85,796D).

The Keewatin and Mt. Iron, Minnesota worker groups include on-site leased workers. The Granite City, Illinois worker group includes all workers at Granite City Works, not limited to workers at the coke batteries and the furnaces. The West Mifflin, Pennsylvania worker group includes all workers at Mon Valley Works, which consists of the Irvin and Thompson Plants. The worker groups include those who support production, including but not limited to logistics, maintenance, personnel, safety, and health workers.

Based on these findings, the Department is amending this certification to clarify that workers at the above facilities are included. The amended notice applicable to TA-W-85,796 is hereby issued as follows:

“All workers of U.S. Steel Tubular Products, Inc., Lone Star Tubular Operations, a subsidiary of United States Steel Corporation, including on-site leased workers from Delta, Alliance Group Technologies, and Good Shepherd Medical Center, Lone Star, Texas (TA-W-85,796); United States Steel Corporation, Minnesota Ore Operations—Keetac, including on-site leased workers of Securitas, Cleaning Specialists, and Alliance Group Technologies, Keewatin, Minnesota (TA-W-85,796A); United States Steel Corporation, Minnesota Ore Operations—Minntac, including on-site leased workers of Securitas, Essentia Health, Cleaning Specialists, and Alliance Group Technologies, Mt. Iron, Minnesota (TA-W-85,796B); United States Steel Corporation, Granite City Works, Granite City, Illinois (TA-W-85,796C); and United States Steel Corporation, Mon Valley Works, West Mifflin, Pennsylvania (TA-W-85,796D), who became totally or partially separated from employment on or after January 27, 2014 through March 12, 2017, are eligible to apply for adjustment assistance under Chapter 2 of Title II of the Trade Act of 1974, as amended, and are also eligible to apply for alternative trade adjustment assistance under Section 246 of the Trade Act of 1974, as amended.”

Signed in Washington, DC this 22nd day of May, 2015.
Del Min Amy Chen,
Certifying Officer, Office of Trade Adjustment Assistance.

[FR Doc. 2015-15958 Filed 6-29-15; 8:45 am]

BILLING CODE 4510-FN-P